NATIONAL SCIENCE FOUNDATION

Agency Information Collection Activities: Comment Request

AGENCY: National Science Foundation.

ACTION: Submission for OMB review; comment request.

SUMMARY: The National Science Foundation (NSF) has submitted the following information collection requirements to OMB for review and clearance under the Paperwork Reduction Act of 1995.

DATES: Written comments on this notice must be received by May 8, 2017 to be assured of consideration. Comments received after that date will be considered to the extent practicable.

Comments: Comments are invited on (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

For Additional Information or Comments: Comments should be addressed to: Office of Information and Regulatory Affairs of OMB, Attention: Desk Officer for National Science Foundation, 725 17th Street NW., Room 10235, Washington, DC 20503, and to Suzanne H. Plimpton, Reports Clearance Officer, National Science Foundation, 4201 Wilson Boulevard, Suite 295, Arlington, Virginia 22230 or send email to splimpto@nsf.gov. Copies of the submission(s) may be obtained by calling 703-292-7556. Individuals who use a telecommunications device for the deaf (TDD) may call the Federal Information Relay Service (FIRS) at 1-800-877-8339, which is accessible 24 hours a day, 7 days a week, 365 days a year (including federal holidays).

It is not permissible for NSF to conduct or sponsor a collection of information unless the collection of information displays a currently valid OMB control number and the agency informs potential persons who are to respond to the collection of information that such persons are not required to respond to the collection of information unless it displays a currently valid OMB control number.

SUPPLEMENTARY INFORMATION:

Title: Survey of Earned Doctorates.

OMB Control Number: 3145-0019.

Summary of Collection: The authority to collect information for the Survey of Earned Doctorates (SED) is established under the National Science Foundation Act of 1950, as amended, Public Law 507 (42 U.S.C. 1862), Section 3(a)(6), which directs the NSF “. . . to provide a central clearinghouse for the collection, interpretation, and analysis of data on scientific and engineering resources and to provide a source of information for policy formation by other agencies of the federal government.” More recently, the National Center for Science and Engineering Statistics (NCSES) was established within NSF by Section 505 of the America COMPETES Reauthorization Act of 2010 and given a broader mandate to collect data related to STEM education, the science and engineering workforce, and U.S. competitiveness in science, engineering, technology, and Research and Development. The SED is part of an integrated survey system that fulfills the education and workforce components of this mission.

The SED has been conducted annually since 1958 and is jointly sponsored by four Federal agencies (NSF, National Institutes of Health, U.S. Department of Education, and National Endowment for the Humanities) to avoid duplication of effort in collecting such data. It is an accurate, timely source of information on an important national resource—individuals with research doctorates. Data are obtained via Web survey or paper questionnaire from each person earning a research doctorate at the time they receive the degree. Graduate schools help distribute the SED to their graduating doctorate recipients. Data are collected on the doctorate recipient's field of specialty, educational background, sources of financial support in graduate school, debt level, postgraduation plans for employment, and demographic characteristics.

The survey will be collected in conformance with the National Science Foundation Act of 1950, as amended, and the Privacy Act of 1974. Responses from individuals are voluntary. NSF will ensure that all individually identifiable information collected will be kept strictly confidential and will be used for research or statistical purposes, analyzing data, and preparing scientific reports and articles.

Comment: On 16 September 2016 we published in the Federal Register (81 FR 63809) a 60-day notice of our intent to request reinstatement of this information collection authority from OMB. In that notice, we solicited public comments for 60 days ending November 14, 2016. Two comments were received from the public, one of which requested draft materials from the SED information collection request being prepared for OMB and one that expressed support for renewing the SED.

Need and Use of the Information: The Federal government, universities, researchers, and others use the information extensively. NSF, as the lead agency, publishes statistics from the survey in several reports, but primarily in the annual publication series, “Doctorate Recipients from U.S. Universities.” These reports are available on the Web. NSF also uses this information to prepare congressionally mandated reports such as Science and Engineering Indicators and Women, Minorities and Persons with Disabilities in Science and Engineering.

Description of Respondents: Individuals, recent earned doctorates.

Number of Respondents: 52,650.

Frequency of Responses: Annually.

Total Burden Hours (annual estimate): 29,350.

Dated: April 4, 2017.
Suzanne H. Plimpton,
Reports Clearance Officer, National Science Foundation.

[FR Doc. 2017-07009 Filed 4-6-17; 8:45 am]

BILLING CODE 7555-01-P